DEPARTMENT OF HOMELAND SECURITY

[Docket No. DHS-2017-0070]

Privacy Act of 1974; System of Records

AGENCY: Privacy Office, Department of Homeland Security.

ACTION: Rescindment of a System of Records Notice.

SUMMARY: In accordance with the Privacy Act of 1974, the Department of Homeland Security is giving notice that it proposes to rescind the following Department Privacy Act systems of records notices: Department of Homeland Security/U.S. Citizenship and Immigration Services-014 Electronic Immigration System-1 Temporary Accounts and Draft Benefit Requests System of Records; Department of Homeland Security/U.S. Citizenship and Immigration Services-015 Electronic Immigration System-2 Account and Case Management System of Records; and Department of Homeland Security/U.S. Citizenship and Immigration Services-016 Electronic Immigration System-3 Automated Background Functions System of Records. The records covered by these systems of records notices will now be covered by existing DHS systems of records notices.

DHS will continue to collect and maintain records regarding individuals who apply for immigration benefits using the online electronic filing system. Rescinding these three DHS systems of records notices mentioned above will have no adverse impacts on individuals, but will promote the overall streamlining and management of Department of Homeland Security Privacy Act record systems.

DATES: These changes will take effect upon publication.

ADDRESSES: You may submit comments, identified by docket number DHS-2017-0070, by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

Instructions: All submissions received must include the agency name and docket number DHS-2017-0070. All comments received will be posted without change to http://www.regulations.gov, including any personally identifiable information (PII) provided.

Docket: For access to the docket to read background documents or comments received, go to http://www.regulations.gov.

FOR FURTHER INFORMATION CONTACT: For general questions, please contact: Donald K. Hawkins, Donald.K.Hawkins@uscis.dhs.gov, (202) 272-8030, Privacy Officer, U.S. Citizenship and Immigration Services, 20 Massachusetts Avenue NW, Washington, DC 20529. For privacy questions, please contact: Philip S. Kaplan, Sam.Kaplan@hq.dhs.gov, (202) 343-1717, Chief Privacy Officer, Privacy Office, Department of Homeland Security, Washington, DC 20528-0655.

SUPPLEMENTARY INFORMATION: Pursuant to the provisions of the Privacy Act of 1974, 5 U.S.C. 552a, and as part of its ongoing integration and management efforts, the Department of Homeland Security (DHS) is rescinding the following systems of records notices: DHS/U.S. Citizenship and Immigration Services (USCIS)-014 Electronic Immigration System-1 Temporary Accounts and Draft Benefit Requests System of Records, 78 FR 20680 (April 5, 2013); DHS/USCIS-015 Electronic Immigration System-2 Account and Case Management System of Records, 78 FR 20673 (April 5, 2013), and DHS/USCIS-016 Electronic Immigration System-3 Automated Background Functions System of Records, 76 FR 70735 (November 15, 2011).

USCIS created the online electronic immigration system (USCIS ELIS) to allow individuals submitting U.S. immigration and naturalization requests to create online accounts and submit certain petitions, applications, and requests for processing and adjudication. The collection, use, maintenance, and dissemination of PII was divided into three distinct processes in the online electronic system: (1) Temporary Account and Draft Benefit Requests; (2) Account and Case Management; and (3) Automated Background Functions. Each process was covered under a separate SORN.

DHS/USCIS-014 covered the collection, use, maintenance, and dissemination of information derived from an individual who created a temporary account so that he or she may submit an application, petition, or request through USCIS ELIS for the first time. Information collected under DHS/USCIS-014 is now covered by Department of Homeland Security/ALL-037 E-Authentication Records System of Records (DHS/ALL-037), 79 FR 46857 (August 11, 2014). DHS/ALL-037 covers the collection of information used to authenticate an individual's identity for the purpose of creating a required system credential to electronically access a DHS program or application.

DHS/USCIS-015 covered the processing and tracking of all actions related to a submitted and pending immigration request, including scheduling of biometrics appointments and interviews, requesting evidence or additional information, and issuing notices, including the final decision, as well as a proof of an approved benefit, if any. The case management, case processing, record receipt and maintenance from DHS/USCIS-015 is now covered by the Department of Homeland Security/U.S. Citizenship and Immigration Services, U.S. Immigration and Customs Enforcement, U.S. Customs and Border Protection-001 Alien File, Index, and National File Tracking System of Records (DHS/USCIS/ICE/CBP-001), 82 FR 43556 (September 18, 2017). DHS/USCIS/ICE/CBP-001 covers information relating to the adjudication of benefits, investigation of immigration violations, and enforcement actions in Alien Files (A-Files). DHS creates a file for each individual containing that individual's immigration records. The A-file may be in paper or electronic format, or a combination of both. USCIS ELIS serves as an electronic repository to store and manage electronic records.

The case management functions of DHS/USCIS-015 are also covered by Department of Homeland Security/United States Citizenship and Immigration Services-007 Benefits Information System (USCIS-007), 81 FR 72069 (October 19, 2016), which covers the collection, use, maintenance, dissemination, and storage of immigration request information, including case processing and decisional data not included in the A-File SORN. These records assist in the processing of immigration requests from the time USCIS collects the information from the requestor until a final decision is recorded in the relevant case management system.

The initial purpose of DHS/USCIS-016 was to assist USCIS personnel in detecting duplicate and related accounts; identifying potential national security concerns, criminality, and fraud; as well as ensuring that serious or complex cases received additional scrutiny. USCIS never collected information that would be covered by DHS/USCIS-016. Instead, all information collected, maintained, used, and disseminated in support of USCIS' efforts to strengthen the integrity of the nation's legal immigration system and to ensure that immigration benefits are not granted to individuals who may pose a threat to national security and/or public safety are covered under the DHS/USCIS-006 Fraud Detection and National Security Records (FDNS), 77 FR 47411, (August 8, 2012).

As such, DHS will continue to collect and maintain records regarding immigration requests, and will rely upon the existing DHS and USCIS systems of records notices for coverage pursuant to the Privacy Act: DHS/ALL-037, 79 FR 46857 (August 11, 2014); DHS/USCIS/ICE/CBP-001, 82 FR 43556 (September 18, 2017), DHS/USCIS-006 FDNS, 77 FR 47411 (August 8, 2012), and DHS/USCIS-007, 81 FR 72069 (October 19, 2016).

Rescinding DHS/USCIS-014, DHS/USCIS-015, and DHS/USCIS-016 will have no adverse impacts on individuals, but will promote the overall streamlining and management of DHS Privacy Act record systems.

SYSTEM NAME AND NUMBER

DHS/USCIS-014 Electronic Immigration System-1 Temporary Accounts and Draft Benefit Requests System of Records; DHS/USCIS-015 Electronic Immigration System-2 Account and Case Management System of Records; and DHS/USCIS-016 Electronic Immigration System-3 Automated Background Functions System of Records.

HISTORY:

DHS/USCIS-014 Electronic Immigration System-1 Temporary Accounts and Draft Benefit Requests System of Records, 78 FR 20680 (April 5, 2013); DHS/USCIS Electronic-015 Electronic Immigration System-2 Account and Case Management System of Records, 78 FR 20673 (April 5, 2013); and DHS/USCIS-016 Electronic Immigration System-3 Automated Background Functions System of Records, 76 FR 70735 (November 15, 2011).

Philip S. Kaplan,
Chief Privacy Officer, Department of Homeland Security.

[FR Doc. 2018-04006 Filed 2-27-18; 8:45 am]

BILLING CODE 9111-97-P